NATIONAL SCIENCE FOUNDATION

Agency Information Collection Activities; Proposals, Submissions, and Approvals

AGENCY: National Science Foundation, National Center for Science and Engineering Statistics.

ACTION: Submission to OMB and Request for Comments.

SUMMARY: The National Science Foundation (NSF) has submitted the following information collection requirements to OMB for review and clearance under the Paperwork Reduction Act of 1995.

DATES: Written comments on this notice must be received by [] to be assured consideration. Comments received after that date will be considered to the extent practicable.

FOR FURTHER INFORMATION CONTACT: Comments should be addressed to: Office of Information and Regulatory Affairs of OMB, Attention: Desk Officer for National Science Foundation, 725 17th Street NW., Room 10235, Washington, DC 20503, and to Suzanne H. Plimpton, Reports Clearance Officer, National Science Foundation, 2415 Eisenhower Avenue, Alexandria, VA 22314; telephone (703) 292-7556; or send email to splimpto@nsf.gov. Copies of the submission(s) may be obtained by calling 703-292-7556. Individuals who use a telecommunications device for the deaf (TDD) may call the Federal Information Relay Service (FIRS) at 1-800-877-8339, which is accessible 24 hours a day, 7 days a week, 365 days a year (including Federal holidays).

SUPPLEMENTARY INFORMATION: Comments are invited on: (a) The proposed confidentiality pledge's fit for use by the National Center for Science and Engineering Statistics (NCSES), and (b) ways to enhance the quality, utility, and clarity of the pledge.

Title: National Center for Science and Engineering Statistics Confidentiality Pledge.

OMB Approval Number: 3145-0245.

Summary of Collection: Federal statistics provide key information that the Nation uses to measure its performance and make informed choices about budgets, employment, health, investments, taxes, and a host of other significant topics. The overwhelming majority of Federal surveys are conducted on a voluntary basis. Respondents, ranging from businesses to households to institutions, may choose whether to provide the requested information. Many of the most valuable Federal statistics come from surveys that ask for highly sensitive information such as proprietary business data from companies or particularly personal information or practices from individuals. Strong and trusted confidentiality and exclusively statistical use pledges under the Confidential Information Protection and Statistical Efficiency Act (CIPSEA) and similar statistical confidentiality pledges are effective and necessary in honoring the trust that businesses, individuals, and institutions, by their responses, place in statistical agencies.

Under CIPSEA and similar statistical confidentiality protection statutes, many Federal statistical agencies make statutory pledges that the information respondents provide will be seen only by statistical agency personnel or their sworn agents, and will be used only for statistical purposes. CIPSEA and similar statutes protect the confidentiality of information that agencies collect solely for statistical purposes and under a pledge of confidentiality. These Acts protect such statistical information from administrative, law enforcement, taxation, regulatory, or any other non-statistical use and immunize the information submitted to statistical agencies from many legal processes. Moreover, statutes like the CIPSEA carry criminal penalties of a Class E felony (fines up to $250,000, or up to five years in prison, or both) for conviction of a knowing and willful unauthorized disclosure of covered information.

As part of the Consolidated Appropriations Act for Fiscal Year 2016 signed on December 17, 2015, the Congress enacted the Federal Cybersecurity Enhancement Act of 2015 (H.R. 2029, Division N, Title II, Subtitle B, Sec. 223). This Act, among other provisions, requires the Secretary of the Department of Homeland Security (DHS) to provide Federal civilian agencies' information technology systems with cybersecurity protection for their Internet traffic. The DHS cybersecurity program's objective is to protect Federal civilian information systems from malicious malware attacks. The Federal statistical system's objective is to ensure that the DHS Secretary performs those essential duties in a manner that honors the Government's statutory promises to the public to protect their confidential data. Given that the DHS is not a Federal statistical agency, both DHS and the Federal statistical system have been successfully engaged in finding a way to balance both objectives and achieve these mutually reinforcing objectives.

As required by passage of the Federal Cybersecurity Enhancement Act of 2015, the Federal statistical community will implement DHS' cybersecurity protection program, called Einstein.

The technology currently used to provide this protection against cyber malware electronically searches Internet traffic in and out of Federal civilian agencies in real time for malware signatures. When such a signature is found, the Internet packets that contain the malware signature are shunted aside for further inspection by DHS personnel. Because it is possible that such packets entering or leaving a statistical agency's information technology system may contain confidential statistical data, statistical agencies can no longer promise their respondents that their responses will be seen only by statistical agency personnel or their sworn agents. However, they can promise, in accordance with provisions of the Federal Cybersecurity Enhancement Act of 2015, that such monitoring can be used only to protect information and information systems from cybersecurity risks, thereby, in effect, providing stronger protection to the security and integrity of the respondents' submissions.

Accordingly, DHS and Federal statistical agencies have developed a Memorandum of Agreement for the installation of Einstein cybersecurity protection technology to monitor their Internet traffic.

On February 2, 2017, in a pair of Federal Register notices (82 FR 9599 and 82 FR 9597), the public was notified of the change to the confidentiality pledges to be used by NCSES. No comments were received in response to those notices.

Table 1 contains a listing of the current numbers and information collection titles for those NCSES programs whose confidentiality pledges will change to reflect the statutory implementation of DHS' Einstein monitoring for cybersecurity protection purposes. For the Information Collection Requests (ICRs) listed in the table below, NCSES statistical confidentiality pledges will be modified to include one of two sentences, based on whether the collection agent is another federal agency (e.g., the U.S. Census Bureau) or a private-sector contractor. For collections by another federal agency, the following sentence will be added to the confidentiality pledge: “Per the Federal Cybersecurity Enhancement Act of 2015, your data are protected from cybersecurity risks through screening of the systems that transmit your data.” For collections by private-sector contractors, whose systems are not covered by Einstein, the following sentence will be added to the confidentiality pledge: “Per the Federal Cybersecurity Enhancement Act of 2015, your data are protected from cybersecurity risks through screening of the federal information systems that transmit your data.”

Table 1 indicates which pledge (federal vs. private) the ICR will use.

Table 1—Current PRA OMB Numbers, Expiration Dates, and Information Collection Titles Included in This Notice
OMB control no. | Expiration date | Information collection title | Pledge version
3145-0101 | 08/31/2018 | Survey of Science and Engineering Research Facilities (Facilities) | Private.
3145-0019 | 05/31/2018 | Survey of Earned Doctorates | Private.
3145-0020 | 08/31/2018 | Survey of Doctorate Recipients | Private.
3145-0100 | 09/30/2019 | Higher Education R&D Survey | Private.
3145-0141 * | 05/31/2018 | National Survey of College Graduates | Federal.
3145-0174 | 07/31/2019 | Generic Clearance of Survey Improvement Projects | Private.
3145-0235 | 06/30/2017 | Early Career Doctorates Survey | Private.
* This information collection was also named in a Federal Register Notice from the U.S. Census Bureau (81 FR 94321), since that agency collects data on NSF's behalf.

Dated: October 24, 2017.
Suzanne H. Plimpton,
Reports Clearance Officer, National Science Foundation.

[FR Doc. 2017-23466 Filed 10-27-17; 8:45 am]

BILLING CODE 7555-01-P